DEPARTMENT OF HOMELAND SECURITY

Federal Emergency Management Agency

[Docket ID FEMA-2014-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Jefferson (FEMA Docket No.: B-1403) | City of Bessemer (13-04-7454P) | The Honorable Kenneth E. Gulley, Mayor, City of Bessemer, 1800 3rd Avenue, North Bessemer, AL 35020 | City Hall, Engineering Department, 1800 3rd Avenue North, Bessemer, AL 35020 | March 13, 2014 | 010115
Jefferson (FEMA Docket No.: B-1403) | Unincorporated areas of Jefferson County (13-04-7454P) | The Honorable David Carrington, Chairman, Jefferson County Commission, 716 Richard Arrington, Jr., Boulevard North, Birmingham, AL 35203 | Jefferson County Land Development Department, 716 Richard Arrington, Jr., Boulevard North, Suite 260, Birmingham, AL 35203 | March 13, 2014 | 010217
Tuscaloosa (FEMA Docket No.: B-1357) | City of Tuscaloosa (13-04-7373P) | The Honorable Walter Maddox, Mayor, City of Tuscaloosa, 2201 University Boulevard, Tuscaloosa, AL 35401 | Engineering Department, 2201 University Boulevard, Tuscaloosa, AL 35401 | February 7, 2014 | 010203
Arizona:
Maricopa (FEMA Docket No.: B-1403) | Town of Buckeye (13-09-2406P) | The Honorable Jackie A. Meck, Mayor, Town of Buckeye, 530 East Monroe Avenue, Buckeye, AZ 85326 | Town Hall, 100 North Apache Street, Suite A, Buckeye, AZ 85326 | March 14, 2014 | 040039
Maricopa (FEMA Docket No.: B-1403) | Unincorporated areas of Maricopa County (13-09-2406P) | The Honorable Andrew Kunasek, Chairman, Maricopa County Board of Supervisors, 301 West Jefferson Street, 10th Floor, Phoenix, AZ 85003 | Maricopa County Flood Control District, 2801 West Durango Street Phoenix, AZ 85009 | March 14, 2014 | 040037
Pima (FEMA Docket No.: B-1357) | Unincorporated areas of Pima County (13-09-0833P) | The Honorable Ramon Valadez, Chairman, Pima County Board of Supervisors, 130 West Congress Street, 11th Floor, Tucson, AZ 85701 | Pima County Flood Control District, 97 East Congress Street, 3rd Floor, Tucson, AZ 85701 | January 24, 2014 | 040073
Pima (FEMA Docket No.: B-1403) | Unincorporated areas of Pima County (13-09-2458P) | The Honorable Ramon Valadez, Chairman, Pima County Board of Supervisors, 130 West Congress Street, 11th Floor, Tucson, AZ 85701 | Pima County Flood Control District, 97 East Congress Street, 3rd Floor, Tucson, AZ 85701 | February 7, 2014 | 040073
Pinal (FEMA Docket No.: B-1357) | City of Maricopa (13-09-0781P) | The Honorable Christian Price, Mayor, City of Maricopa, P.O. Box 610, Maricopa, AZ 85139 | City Clerk's Department, 39700 West Civic, Center Plaza, Maricopa, AZ 85138 | January 24, 2014 | 040052
Yavapai (FEMA Docket No.: B-1403) | Unincorporated areas of Yavapai County (13-09-0731P) | The Honorable Chip Davis, Chairman, Yavapai County Board of Supervisors, 10 South 6th Street, Cottonwood, AZ 86326 | Yavapai County Flood Control District, 500 South Marina Street, Prescott, AZ 86303 | March 7, 2014 | 040093
California:
Humboldt (FEMA Docket No.: B-1403) | City of Arcata (13-09-2457P) | The Honorable Shane Brinton, Mayor, City of Arcata, 736 F Street, Arcata, CA 95521 | Public Works Department, 736 F Street, Arcata, CA 95521 | February 28, 2014 | 060061
Los Angeles (FEMA Docket No.: B-1357) | City of Santa Clarita (13-09-2046P) | The Honorable Bob Kellar, Mayor, City of Santa Clarita, 23920 Valencia Boulevard, Santa Clarita, CA 91355 | City Hall, 23920 Valencia Boulevard, Santa Clarita, CA 91355 | February 7, 2014 | 060729
San Luis Obispo (FEMA Docket No.: B-1357) | City of San Luis Obispo (13-09-2401P) | The Honorable Jan Howell Marx, Mayor, City of San Luis Obispo, 990 Palm Street, San Luis Obispo, CA 93401 | Public Works Department, 919 Palm Street, San Luis Obispo, CA 93401 | January 31, 2014 | 060310
Ventura (FEMA Docket No.: B-1357) | City of Camarillo (13-09-1000P) | The Honorable Charlotte Craven, Mayor, City of Camarillo, 601 Carmen Drive, Camarillo, CA 93010 | Public Works Department, 601 Carmen Drive, Camarillo, CA 93010 | January 31, 2014 | 065020
Ventura (FEMA Docket No.: B-1357) | Unincorporated areas of Ventura County (13-09-1000P) | The Honorable Peter C. Foy, Chairman, Ventura County, Board of Supervisors, 800 South Victoria Avenue, Ventura, CA 93009 | Ventura County Hall of Administration, Public Works Agency, 800 South Victoria Avenue, Ventura, CA 93009 | January 31, 2014 | 060413
Colorado:
Boulder (FEMA Docket No.: B-1357) | City of Lafayette (13-08-0605P) | The Honorable Carolyn Cutler, Mayor, City of Lafayette, 1290 South Public Road, Lafayette, CO 80026 | City Hall, 1290 South Public Road, Lafayette, CO 80026 | January 24, 2014 | 080026
Boulder (FEMA Docket No.: B-1357) | City of Louisville (13-08-0605P) | The Honorable Bob Muckle, Mayor, City of Louisville, 1101 Lincoln Avenue, Louisville, CO 80027 | City Hall, 749 Main Street, Louisville, CO 80027 | January 24, 2014 | 085076
Denver (FEMA Docket No.: B-1357) | City and County of Denver (13-08-0332P) | The Honorable Michael B. Hancock, Mayor, City and County of Denver, 1437 North Bannock Street, Suite 350, Denver, CO 80202 | Department of Public Works, 201 West Colfax Avenue, Denver, CO 80202 | February 12, 2014 | 080046
Douglas (FEMA Docket No.: B-1403) | Town of Parker (13-08-0607P) | The Honorable Mike Waid, Mayor, Town of Parker, 20120 East Main Street, Parker, CO 80138 | Public Works Department, 20120 East Main Street, Parker, CO 80138 | March 14, 2014 | 080310
El Paso (FEMA Docket No.: B-1403) | City of Colorado Springs (13-08-1078P) | The Honorable Steve Bach, Mayor, City of Colorado Springs, 30 South Nevada Avenue, Colorado Springs, CO 80903 | Floodplain Administrator's Office, 2880 International Circle, Colorado Springs, CO 80910 | March 14, 2014 | 080060
Jefferson (FEMA Docket No.: B-1403) | City of Lakewood (13-08-0333P) | The Honorable Bob Murphy, Mayor, City of Lakewood, 480 South Allison Parkway, Lakewood, CO 80226 | Engineering Department, 480 South Allison Parkway, Lakewood, CO 80226 | February 28, 2014 | 085075
Florida:
Collier (FEMA Docket No.: B-1357) | City of Naples (13-04-5410P) | The Honorable John F. Sorey III, Mayor, City of Naples, 735 8th Street South, Naples, FL 34102 | Building Department, 295 Riverside Circle, Naples, FL 34102 | January 24, 2014 | 125130
Orange (FEMA Docket No.: B-1403) | City of Maitland (13-04-7033P) | The Honorable Howard Schieferdecker, Mayor, City of Maitland, Maitland Municipal Complex, 1776 Independence Lane, Maitland, FL 32751 | City Hall, 1776 Independence Lane, Maitland, FL 32751 | March 7, 2014 | 120184
Orange (FEMA Docket No.: B-1403) | City of Orlando (13-04-7033P) | The Honorable Buddy Dyer, Mayor, City of Orlando, P.O. Box 4990, Orlando, FL 32808 | Permitting Services Division, 400 South Orange Avenue, Orlando, FL 32801 | March 7, 2014 | 120186
Orange (FEMA Docket No.: B-1357) | City of Orlando (13-04-2963P) | The Honorable Buddy Dyer, Mayor, City of Orlando, P.O. Box 4990, Orlando, FL 32808 | Permitting Services Department, 400 South Orange Avenue, Orlando, FL 32801 | February 7, 2014 | 120186
Orange (FEMA Docket No.: B-1403) | City of Winter Park (13-04-7033P) | The Honorable Kenneth W. Bradley, Mayor, City of Winter Park, 401 South Park Avenue, Winter Park, FL 32789 | City Hall, 401 South Park Avenue, Winter Park, FL 32789 | March 7, 2014 | 120188
Orange (FEMA Docket No.: B-1403) | Unincorporated areas of Orange County (13-04-7033P) | The Honorable Teresa Jacobs, Mayor, Orange County, 201 South Rosalind Avenue, 5th Floor, Orlando, FL 32801 | Orange County Stormwater, Management Division, 4200 South John Young Parkway, Orlando, FL 32839 | March 7, 2014 | 120179
Orange (FEMA Docket No.: B-1357) | Unincorporated areas of Orange County (13-04-2963P) | The Honorable Teresa Jacobs, Mayor, Orange County, 201 South Rosalind Avenue, 5th Floor, Orlando, FL 32801 | Orange County Stormwater, Management Division, 4200 South John Young Parkway, Orlando, FL 32839 | February 7, 2014 | 120179
Sarasota (FEMA Docket No.: B-1357) | City of Sarasota (13-04-6594P) | The Honorable Shannon Snyder, Mayor, City of Sarasota, 1565 1st Street, Room 101, Sarasota, FL 34236 | City Hall, 1565 1st Street, Sarasota, FL 34236 | January 31, 2014 | 125150
Sarasota (FEMA Docket No.: B-1357) | Unincorporated areas of Sarasota County (13-04-6707P) | The Honorable Carolyn Mason, Chair, Sarasota County Commission, 1660 Ringling Boulevard, Sarasota, FL 34236 | Sarasota County Stormwater, Management Division, 1001 Sarasota Center Boulevard, Sarasota, FL 34240 | February 12, 2014 | 125144
Seminole (FEMA Docket No.: B-1403) | City of Casselberry (13-04-7033P) | The Honorable Charlene Glancy, Mayor, City of Casselberry, 95 Triplet Lake Drive, Casselberry, FL 32707 | Fire/Public Works Administration, 95 Triplet Lake Drive, Casselberry, FL 32707 | March 7, 2014 | 120291
Seminole (FEMA Docket No.: B-1403) | Unincorporated areas of Seminole County (13-04-7033P) | The Honorable Bob Dallari, Chairman, Seminole County Board of Commissioners, 1101 East 1st Street, Sanford, FL 32771 | County Services Building, 1101 East 1st Street, Sanford, FL 32771 | March 7, 2014 | 120289
Sumter (FEMA Docket No.: B-1357) | Unincorporated areas of Sumter County (13-04-5645P) | The Honorable Doug Gilpin, Chairman, Sumter County Board of Commissioners, 7375 Powell Road, Wildwood, FL 34785 | Sumter County Planning Department, 7375 Powell Road, Wildwood, FL 34785 | February 7, 2014 | 120296
Georgia: Forsyth (FEMA Docket No.: B-1357) | Unincorporated areas of Forsyth County (13-04-6334P) | The Honorable R. J. Amos, Chairman, Forsyth County Board of Commissioners, 110 East Main Street, Suite 210, Cumming, GA 30040 | Forsyth County, Administration Building, 110 East Main Street, Suite 120, Cumming, GA 30040 | January 9, 2014 | 130312
Hawaii:
Hawaii (FEMA Docket No.: B-1357) | Hawaii County (13-09-2129P) | The Honorable William P. Kenoi, Mayor, Hawaii County, 25 Aupuni Street, Hilo, HI 96720 | Hawaii County Public Works Department, 101 Pauahi Street, Suite 7, Hilo, HI 96720 | February 7, 2014 | 155166
Hawaii (FEMA Docket No.: B-1403) | Hawaii County (13-09-2580P) | The Honorable William P. Kenoi, Mayor, Hawaii County, 25 Aupuni Street, Hilo, HI 96720 | Hawaii County Public Works Department, 101 Pauahi Street, Suite 7, Hilo, HI 96720 | February 21, 2014 | 155166
Kentucky: Christian (FEMA Docket No.: B-1357) | City of Hopkinsville (13-04-5407P) | The Honorable Dan Kemp, Mayor, City of Hopkinsville, 101 North Main Street, Hopkinsville, KY 42240 | Lackey Municipal Building, 101 North Main Street, Hopkinsville, KY 42240 | January 31, 2014 | 210055
Mississippi:
Jones (FEMA Docket No.: B-1403) | City of Ellisville (13-04-1560P) | The Honorable Tim Waldrup, Mayor, City of Ellisville, 110 North Court Street, Ellisville, MS 39437 | City Hall, 110 North Court Street, Ellisville, MS 39437 | February 28, 2014 | 280091
Jones (FEMA Docket No.: B-1403) | Unincorporated areas of Jones County (13-04-1560P) | The Honorable Andy Dial, President, Jones County Board of Supervisors, P.O. Box 1468, Laurel, MS 39441 | Jones County Courthouse, 415 North 5th Avenue, Laurel, MS 39441 | February 28, 2014 | 280222
Union (FEMA Docket No.: B-1403) | Unincorporated areas of Union County (13-04-3496P) | The Honorable Danny Jordan, President, Union County Board of Supervisors, 109 East Main Street, New Albany, MS 38652 | Union County Courthouse, 109 East Main Street, New Albany, MS 38652 | March 10, 2014 | 280237
Nevada: Douglas (FEMA Docket No.: B-1357) | Unincorporated areas of Douglas County (13-09-2041P) | The Honorable Greg Lynn, Chairman, Douglas County Board of Commissioners, P.O. Box 218, Minden, NV 89423 | Douglas County Community Development Department, Planning Division, 1594 Esmeralda Avenue, Minden, NV 89423 | January 27, 2014 | 320008
North Carolina:
Haywood (FEMA Docket No.: B-1350) | Unincorporated areas of Haywood County (13-04-3050P) | The Honorable Mark Swanger, Chairman, Haywood County Board of Commissioners, 215 North Main Street, Waynesville, NC 28786 | Haywood County Planning Office, 1233 North Main Street, Waynesville, NC 28786 | November 19, 2013 | 370120
Henderson (FEMA Docket No.: B-1357) | Unincorporated areas of Henderson County (12-04-1370P) | The Honorable Charles Messer, Chairman, Henderson County Board of Commissioners, 1 Historic Courthouse Square, Suite 1, Hendersonville, NC 28792 | 100 North King Street, Hendersonville, NC 28792 | January 2, 2014 | 370125
Lee (FEMA Docket No.: B-1357) | Unincorporated areas of Lee County (11-04-7013P) | The Honorable Charlie Parks, Chairman, Lee County Board of Commissioners, P.O. Box 1968, Sanford, NC 27331 | Summit Building, 408 Summit Drive, Sanford, NC 27331 | January 15, 2014 | 370331
McDowell (FEMA Docket No.: B-1357) | Unincorporated areas of McDowell County (11-04-8431P) | The Honorable Randy Hollifield, Chairman, McDowell County Board of Commissioners, County Administration Building, 60 East Court Street, Marion, NC 28752 | County Administration Building, 60 East Court Street, Marion, NC 28752 | December 26, 2013 | 370148
Wake (FEMA Docket No.: B-1357) | Town of Cary (13-04-3068P) | The Honorable Harold Weinbrecht, Jr., Mayor, Town of Cary, P.O. Box 8005, Cary, NC 27512 | Stormwater Services Division, 316 North Academy Street, Cary, NC 27512 | January 30, 2014 | 370238
Wake (FEMA Docket No.: B-1357) | Town of Cary (12-04-8021P) | The Honorable Harold Weinbrecht, Jr., Mayor, Town of Cary, P.O. Box 8005, Cary, NC 27512 | Stormwater Services Division, 316 North Academy Street, Cary, NC 27512 | February 13, 2014 | 370238
South Carolina:
Charleston (FEMA Docket No.: B-1357) | City of Charleston (13-04-5644P) | The Honorable Joseph P. Riley, Jr., Mayor, City of Charleston, P.O. Box 652, Charleston, SC 29402 | Department of Public Service, 75 Calhoun Street, 3rd Floor, Charleston, SC 29401 | January 31, 2014 | 455412
Charleston (FEMA Docket No.: B-1357) | Unincorporated areas of Charleston County (13-04-5644P) | The Honorable Teddie E. Pryor, Sr., Chairman, Charleston County Council, 4045 Bridge View Drive, North Charleston, SC 29405 | Charleston County Public Services Building, 4045 Bridge View Drive, North Charleston, SC 29405 | January 31, 2014 | 455413
York (FEMA Docket No.: B-1403) | City of Rock Hill (13-04-4084P) | The Honorable Doug Echols, Mayor, City of Rock Hill, 155 Johnson Street, Rock Hill, SC 29731 | City Hall, 155 Johnson Street, Rock Hill, SC 29731 | February 7, 2014 | 450196
York (FEMA Docket No.: B-1403) | Unincorporated areas of York County (13-04-4084P) | The Honorable J. Britt Blackwell, Chairman, York County Council, 6 South Congress Street, York, SC 29745 | York County, Engineering Department, 6 South Congress Street, York, SC 29745 | February 7, 2014 | 450193
South Dakota: Lawrence (FEMA Docket No.: B-1357) | City of Spearfish (13-08-0834P) | The Honorable Dana Boke, Mayor, City of Spearfish, 625 North 5th Street, Spearfish, SD 57783 | Public Works Department, 625 North 5th Street, Spearfish, SD 57783 | February 12, 2014 | 460046
Utah:
Davis (FEMA Docket No.: B-1357) | City of Farmington (13-08-0082P) | The Honorable Scott Harbertson, Mayor, City of Farmington, P.O. Box 160, Farmington, UT 84025 | City Hall, 160 South Main Street, Farmington, UT 84025 | February 7, 2014 | 490044
Davis (FEMA Docket No.: B-1357) | Unincorporated areas of Davis County (13-08-0082P) | The Honorable John Petroff, Jr., Chairman, Davis County Board of Commissioners, P.O. Box 618, Farmington, UT 84025 | Davis County Planning Department, 61 South Main Street, Farmington, UT 84025 | February 7, 2014 | 490038

(Catalog of Federal Domestic Assistance No. 97.022, “Flood Insurance.”)

Dated: April 22, 2014.
Roy E. Wright,
Deputy Associate Administrator for Mitigation, Department of Homeland Security, Federal Emergency Management Agency.

[FR Doc. 2014-11010 Filed 5-12-14; 8:45 am]

BILLING CODE 9110-12-P